SMALL BUSINESS ADMINISTRATION

[Disaster Declaration #15224 and #15225; California Disaster Number CA-00275]

Administrative Declaration Amendment of Disaster for the State of California

AGENCY: U.S. Small Business Administration.

ACTION: Amendment 1.

SUMMARY: This is an amendment of the Administrative declaration of a disaster for the State of CALIFORNIA dated 08/11/2017.

DATES: Issued on 08/11/2017.

Physical Loan Application Deadline Date: 09/29/2017.

Economic Injury (EIDL) Loan Application Deadline Date: 05/01/2018.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of an Administrative declaration for the State of CALIFORNIA, dated 07/31/2017, is hereby amended to establish the incident closing date as 08/01/2017.

Incident: Detwiler Fire.

Incident Period: 07/16/2017 through 08/01/2017.

All other information in the original declaration remains unchanged.

(Catalog of Federal Domestic Assistance Number 59008)

Linda E. McMahon,
Administrator.

[FR Doc. 2017-17915 Filed 8-23-17; 8:45 am]

BILLING CODE 8025-01-P